DEPARTMENT OF HOMELAND SECURITY

Federal Emergency Management Agency

[Docket ID FEMA-2022-0002; Internal Agency Docket No. FEMA-B-2244]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Arapahoe | City of Aurora (21-08-1079P). | The Honorable Mike Coffman, Mayor, City of Aurora,15151 East Alameda Parkway, Aurora, CO 80012. | Public Works Department, 15151 East Alameda Parkway, Aurora, CO 80012. | https://msc.fema.gov/portal/advanceSearch. | Sep. 2, 2022 | 080002
Arapahoe | City of Centennial (21-08-1000P). | The Honorable Stephanie Piko, Mayor, City of Centennial, 13133 East Arapahoe Road, Centennial, CO 80112. | Southeast Metro Stormwater Authority, 7437 South Fairplay Street, Centennial, CO 80112. | https://msc.fema.gov/portal/advanceSearch. | Sep. 9, 2022 | 080315
Larimer | Unincorporated areas of Larimer County (21-08-0460P). | The Honorable John Kefalas, Chairman, Larimer County Board of Commissioners, 200 West Oak Street, Suite 2200, Fort Collins, CO 80521. | Larimer County Engineering Department, 200 West Oak Street, Suite 3000, Fort Collins, CO 80521. | https://msc.fema.gov/portal/advanceSearch. | Aug. 18, 2022 | 080101
Florida:
Broward | City of Lauderdale Lakes (21-04-5598P). | The Honorable Hazelle P. Rogers, Mayor, City of Lauderdale Lakes, 4300 Northwest 36th Street, Lauderdale Lakes, FL 33319. | Development Services Planning and Zoning Section, 3521 Northwest 43rd Avenue, Lauderdale Lakes, FL 33319. | https://msc.fema.gov/portal/advanceSearch. | Sep. 14, 2022 | 120043
Monroe | Village of Islamorada (22-04-1253P). | The Honorable Pete Bacheler, Mayor, Village of Islamorada, 86800 Overseas Highway, Islamorada, FL 33036. | Building Department, 86800 Overseas Highway, Islamorada, FL 33036. | https://msc.fema.gov/portal/advanceSearch. | Sep. 1, 2022 | 120424
Monroe | Village of Islamorada (22-04-2190P). | The Honorable Pete Bacheler, Mayor, Village of Islamorada, 86800 Overseas Highway, Islamorada, FL 33036. | Building Department, 86800 Overseas Highway, Islamorada, FL 33036. | https://msc.fema.gov/portal/advanceSearch. | Aug. 29, 2022 | 120424
Osceola | Unincorporated areas of Osceola County (21-04-4047P). | Mr. Don Fisher, Osceola County Manager, 1 Courthouse Square, Suite 4700, Kissimmee, FL 34741. | Osceola County Building Department, 1 Courthouse Square, Suite 1400, Kissimmee, FL 34741. | https://msc.fema.gov/portal/advanceSearch. | Sep. 2, 2022 | 120189
Georgia: Gwinnett | Unincorporated areas of Gwinnett County (21-04-5535P). | The Honorable Nicole Love Hendrickson, Chair, Gwinnett County Board of Commissioners, 75 Langley Drive, Lawrenceville, GA 30046. | Gwinnett County Department of Water Resources, 684 Winder Highway, Lawrenceville, GA 30045. | https://msc.fema.gov/portal/advanceSearch. | Aug. 18, 2022 | 130322
Maryland:
Anne Arundel | Unincorporated areas of Anne Arundel County, (22-03-0012P). | The Honorable Steuart Pittman, Anne Arundel County Executive, 44 Calvert Street, Annapolis, MD 21401. | Anne Arundel County Heritage Office Complex, 2664 Riva Road, Annapolis, MD 21401. | https://msc.fema.gov/portal/advanceSearch. | Sep. 9, 2022 | 240008
Prince George's | City of Laurel (22-03-0012P). | The Honorable Craig A. Moe, Mayor, City of Laurel, 8103 Sandy Spring Road, Laurel, MD 20707. | City Hall, 8103 Sandy Spring Road, Laurel, MD 20707. | https://msc.fema.gov/portal/advanceSearch. | Sep. 9, 2022 | 240053
Pennsylvania:
Chester | Township of West Pikeland (21-03-1172P). | The Honorable Carin Mifsud, Chair, Township of West Pikeland Board of Supervisors, 1645 Art School Road, Chester Springs, PA 019425. | Township Hall, 1645 Art School Road, Chester Springs, PA 19425. | https://msc.fema.gov/portal/advanceSearch. | Aug. 25, 2022 | 421151
Montgomery | Township of Lower Frederick (22-03-0084P). | The Honorable Marla Hexter, Chair, Township of Lower Frederick Board of Supervisors, 53 Spring Mount Road, Schwenksville, PA 19473. | Township Hall, 53 Spring Mount Road, Schwenksville, PA 19473. | https://msc.fema.gov/portal/advanceSearch. | Sep. 8, 2022 | 420952
Texas:
Bexar | Unincorporated areas of Bexar County (22-06-0280P). | The Honorable Nelson W. Wolff, Bexar County Judge, 101 West Nueva Street, 10th Floor, San Antonio, TX 78205. | Bexar County Public Works Department, 1948 Probandt Street, San Antonio, TX 78214. | https://msc.fema.gov/portal/advanceSearch. | Aug. 29, 2022 | 480035
Dallas | City of Dallas (21-06-2894P). | The Honorable Eric Johnson, Mayor, City of Dallas, 1500 Marilla Street, Suite 5EN, Dallas, TX 75201. | Oak Cliff Municipal Center, 320 East Jefferson Boulevard, Room 312, Dallas, TX 75203. | https://msc.fema.gov/portal/advanceSearch. | Aug. 22, 2022 | 480171
Denton | City of Fort Worth (22-06-0542P). | The Honorable Mattie Parker, Mayor, City of Fort Worth, 200 Texas Street, Fort Worth, TX 76102. | Transportation and Public Works Department, Engineering Vault, 200 Texas Street, Fort Worth, TX 76102. | https://msc.fema.gov/portal/advanceSearch. | Sep. 15, 2022 | 480596
Johnson | City of Burleson (21-06-2082P). | The Honorable Chris Fletcher, Mayor, City of Burleson, 141 West Renfro Street, Burleson, TX 76028. | City Hall, 141 West Renfro Street, Burleson, TX 76028. | https://msc.fema.gov/portal/advanceSearch. | Sep. 8, 2022 | 485459
Tarrant | City of Fort Worth (22-06-0310P). | The Honorable Mattie Parker, Mayor, City of Fort Worth, 200 Texas Street, Fort Worth, TX 76102. | Transportation and Public Works Department, Engineering Vault, 200 Texas Street, Fort Worth, TX 76102. | https://msc.fema.gov/portal/advanceSearch. | Sep. 15, 2022 | 480596
Tarrant | City of Haslet (21-06-2045P). | The Honorable Gary Hulsey, Mayor, City of Haslet, 101 Main Street, Haslet, TX 76052. | City Hall, 101 Main Street, Haslet, TX 76052. | https://msc.fema.gov/portal/advanceSearch. | Sep. 6, 2022 | 480600
Tarrant | Unincorporated areas of Tarrant County (21-06-2045P). | The Honorable B. Glen Whitley, Tarrant County Judge, 100 East Weatherford Street, Fort Worth, TX 76196. | Tarrant County Administration Building, 100 East Weatherford Street, Fort Worth, TX 76196. | https://msc.fema.gov/portal/advanceSearch. | Sep. 6, 2022 | 480582
Williamson | City of Georgetown (21-06-2319P). | Mr. David Morgan, City of Georgetown Manager, P.O. Box 409, Georgetown, TX 78626. | Mapping and GIS Department, 300-1 Industrial Avenue, Georgetown, TX 78626. | https://msc.fema.gov/portal/advanceSearch. | Sep. 8, 2022 | 480668
Williamson | City of Round Rock (22-06-0132P). | The Honorable Craig Morgan, Mayor, City of Round Rock, 221 East Main Street, Round Rock, TX 78664. | City Hall, 221 East Main Street, Round Rock, TX 78664. | https://msc.fema.gov/portal/advanceSearch. | Sep. 8, 2022 | 481048
Williamson | Unincorporated areas of Williamson County (21-06-2319P). | The Honorable Bill Gravell, Jr., Williamson County Judge, 710 South Main Street, Suite 101, Georgetown, TX 78626. | Williamson County Engineering Department, 3151 Southeast Inner Loop, Georgetown, TX 78626. | https://msc.fema.gov/portal/advanceSearch. | Sep. 8, 2022 | 481079
Williamson | Unincorporated areas of Williamson County (21-06-3275P). | The Honorable Bill Gravell, Jr., Williamson County Judge, 710 South Main Street, Suite 101, Georgetown, TX 78626. | Williamson County Engineering Department, 3151 Southeast Inner Loop, Georgetown, TX 78626. | https://msc.fema.gov/portal/advanceSearch. | Sep. 1, 2022 | 481079
Williamson | Unincorporated areas of Williamson County (22-06-0132P). | The Honorable Bill Gravell, Jr., Williamson County Judge, 710 South Main Street, Suite 101, Georgetown, TX 78626. | Williamson County Engineering Department, 3151 Southeast Inner Loop, Georgetown, TX 78626. | https://msc.fema.gov/portal/advanceSearch. | Sep. 8, 2022 | 481079
West Virginia: Wood | Unincorporated areas of Wood County, (22-03-0440P). | The Honorable David Blair Couch, President, Wood County Commission, 1 Court Square, Suite 205, Parkersburg, WV 26101. | Wood County Commission Office, 1 Court Square, Suite 205, Parkersburg, WV 26101. | https://msc.fema.gov/portal/advanceSearch. | Sep. 9, 2022 | 540213

[FR Doc. 2022-12382 Filed 6-8-22; 8:45 am]

BILLING CODE 9110-12-P